DEPARTMENT OF AGRICULTURE

Forest Service

Giant Sequoia National Monument Scientific Advisory Board

AGENCY: Forest Service, USDA.

ACTION: Notice of meeting.

SUMMARY: The Giant Sequoia National Monument Scientific Advisory Board (Scientific Advisory Board) will meet at the Visalia Convention Center in Visalia, California, March 12 and 13, 2003. The purpose of the meeting is to hear comments from the public, and to provide Forest personnel with comments on the Giant Sequoia National Monument Management Plan Draft Environmental Impact Statement (DEIS).

DATES: The meeting will be held Wednesday and Thursday, March 12 and 13, from 8 a.m. to 5 p.m.

ADDRESSES: The meeting will be held at the Visalia Convention Center, 303 E. Acequia Avenue, Visalia, California, in the Sequoia room.

FOR FURTHER INFORMATION CONTACT: To receive further information, contact Arthur L. Gaffrey, 559-784-1500.

SUPPLEMENTARY INFORMATION: The meeting is open to the public. If you are planning to attend, please contact Arthur L. Gaffrey to ensure adequate seating. Guidelines for the public participation portion of the Scientific Advisory Board's meeting are as follows: The public will be allowed to address the Scientific Advisory Board during the first 30 minutes of the meeting on March 12; when registering, participants must provide 9 written copies of their presentation, one copy for each member of the Board and one copy to be included in the meeting minutes; oral presentations may be no more than 5 minutes in length, depending on the number of people wishing to address the Scientific Advisory Board; priority for presentations will be given to persons who did not make a presentation at a previous meeting; and all presentations must be related to the science surrounding the development of the Management Plan for the Giant Sequoia National Monument.

Written comments for the Scientific Advisory Board may be submitted to Forest Supervisor Arthur L. Gaffrey, Sequoia National Forest, 900 West Grand Avenue, Porterville, California 93257.

A final agenda can be obtained by contacting Arthur L. Gaffrey or by visiting the Giant Sequoia National Monument Web site at http://www.r5.fs.fed.us/giant_sequoia.

Dated: February 10, 2003.
Arthur L. Gaffrey,
Sequoia National Forest.

[FR Doc. 03-3666 Filed 2-13-03; 8:45 am]

BILLING CODE 3410-11-M